ENVIRONMENTAL PROTECTION AGENCY

40 CFR Part 52

[PA185-4191; FRL-7211-5]

Approval and Promulgation of Air Quality Implementation Plans; Commonwealth of Pennsylvania; Control of Volatile Organic Compounds From Solvent Cleaning Operations

AGENCY: Environmental Protection Agency (EPA).

ACTION: Proposed rule.

SUMMARY: EPA is proposing to approve a State Implementation Plan (SIP) revision submitted by the Commonwealth of Pennsylvania. This revision includes the adoption of revised volatile organic compound (VOC) control regulations for solvent cleaning operations, and also adds new definitions and amends certain existing definitions for terms used in regulations pertaining to solvent cleaning operations.

DATES: Written comments must be received on or before June 14, 2002.

ADDRESSES: Written comments may be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Pennsylvania Department of Environmental Protection, Bureau of Air Quality, P.O. Box 8468, 400 Market Street, Harrisburg, Pennsylvania.

FOR FURTHER INFORMATION CONTACT: Ellen Wentworth, (215) 814-2034, or by e-mail at wentworth.ellen@epa.gov. Please note that while questions may be posed via telephone and e-mail, formal comments must be submitted in writing, as indicated in the ADDRESSES section of this document.

SUPPLEMENTARY INFORMATION: On February 13, 2002, the Pennsylvania Department of Environmental Protection (PADEP) submitted a State Implementation Plan (SIP) revision. This revision consists of revised regulations for the control of VOC emissions from solvent cleaning operations. PADEP submitted this SIP revision in order to reduce VOCs emitted from solvent cleaning operations statewide. These regulations will help to achieve additional VOC emission reduction benefits needed in the Philadelphia-Wilmington-Trenton severe nonattainment area (the Philadelphia area) to close an EPA-identified shortfall in the attainment demonstration submitted by Pennsylvania for the Philadelphia area and approved by EPA on October 26, 2001 (66 FR 54143).

I. Background

Under the Federal Clean Air Act (CAA), states are required to ensure that the ambient air meets the National Ambient Air Quality Standards (NAAQS). In areas where those standards are not met, states are required to develop and implement emission control plans to meet the standards, and then to ensure that the standards are maintained.

The Ozone Transport Commission (OTC) was created by Congress, pursuant to the CAA amendments of 1990, to help coordinate control plans for reducing ground-level ozone in the Northeast and mid-Atlantic states. The OTC continues to work individually and collectively to ensure attainment and maintenance of the national ambient air quality standards (NAAQS). This includes identifying any remaining control measures that may be necessary to attain and maintain the NAAQS. Six states (Connecticut, Delaware, Maryland, New Jersey, New York, and Pennsylvania) in particular are focusing on additional control measures as part of their severe area ozone attainment demonstrations. Working regionally, the OTC states expedited development of control measures into model rules for a number of source categories and estimated emission reduction benefits from implementing these model rules. Implementing the model rules will result in SIP emission reductions in VOC and NOX to support the attainment demonstrations, as well as reducing ground-level ozone in other areas of the states. The model rules that were developed may be used by states as a framework for state-specific regulations. Each state must act pursuant to its own administrative process in order to promulgate and implement the model rules.

On October 26, 2001 (66 FR 54143), EPA approved the one-hour attainment demonstration SIP submitted by Pennsylvania for the Philadelphia area, with the understanding that the Commonwealth would submit additional emission reduction measures to address EPA-identified emission shortfalls. One of the emission reduction measures identified by the OTC to help attain and maintain the one-hour ozone standard was a regulation reducing VOC emissions from solvent cleaning operations. Pennsylvania submitted a SIP revision to its solvent cleaning regulations to EPA on February 13, 2002, based upon the model rule developed by the OTC.

This revision will reduce VOCs emitted from solvent cleaning operations throughout the Commonwealth and will help achieve the additional VOC emission reduction benefits needed by the Philadelphia area to meet its attainment demonstration commitments.

II. Summary of SIP Submittal

On February 13, 2002, the Commonwealth of Pennsylvania submitted a SIP revision revising its VOC control requirements for solvent cleaning operations throughout the state. Specifically, a new section, section 129.63 of Chapter 129, Standards for Sources, Sources of VOCs, VOC Cleaning Operations, is replacing the current section 129.63 to update equipment requirements for solvent cleaning machines to make the requirements consistent with current technology. In addition, the operating requirements in section 129.63 are being revised to specify improved operating practices. This SIP revision also adds and revises definitions for terms in Chapter 121, section 121.1 Definitions, that are used in the substantive sections of Chapter 129 relating to standards for sources.

This revision also specifies volatility limits for solvents used in cold cleaning machines. This revision only applies to those operations that use solvents containing greater than 5 percent VOC content by weight for the cleaning of metal parts. This revision exempts solvent cleaning machines that are subject to the Federal Solvent Cleaning NESHAP (National Emission Standard for Hazardous Air Pollutants), and provides operators of solvent cleaning machines a choice of compliance options for meeting the requirements of this rulemaking. Owners and operators of affected solvent cleaning machines can either implement a program using low volatility solvents or they can assure that the affected units meet specific hardware requirements. Some of the VOC control requirements in this rulemaking are more stringent than the control requirements in the Federal Control Techniques Guidelines issued in 1977. PADEP revised the solvent cleaning operations control requirements to enable the Commonwealth to attain and maintain the ozone NAAQS. Specifically, this SIP revision includes requirements adopted in the Federal Solvent Cleaning NESHAP for cleaning operations utilizing nonhazardous air pollutant VOC solvents, as well as hazardous air pollutant (HAP) VOC solvents. This will discourage operators from converting to non-HAP VOC solvents to avoid the more stringent NESHAP requirements, which could adversely affect air quality.

A. Summary of Revised Solvent Cleaning Regulations

Chapter 129. Standards For Sources—Revisions to Section 129.63, VOC Cleaning Operations

Except for machines subject to the Federal Solvent Cleaning NESHAP promulgated under 40 CFR part 63, subpart T, the changes to section 129.63(a)-(c) and the addition of section 129.63(d) apply to cold cleaning machines, batch vapor cleaning machines, in-line vapor cleaning machines, airless cleaning machines, and airtight cleaning machines that use solvents containing greater than 5 percent VOC content by weight to clean metal parts. These revisions update equipment requirements for these solvent cleaning machines to make the equipment requirements consistent with current technology. These equipment specifications are consistent with the requirements of the Federal Solvent Cleaning NESHAP. Section 129.63(e) specifies volatility limits for solvents in certain cleaning machines.

Section 129.63(a) Cold Cleaning Machines

This section specifically applies to cold cleaning machines except for those subject to the Federal Solvent Cleaning NESHAP. This section applies to cold cleaning machines that use 2 gallons or more of solvents containing greater than 5 percent VOC content by weight for the cleaning of metal parts. The section outlines the operating practices and procedures that are to be followed when operating a cold cleaning machine.

Section 129.63(b) Batch Vapor Cleaning Machines

This section specifically applies to batch vapor cleaning machines, except for those subject to the Federal Solvent Cleaning NESHAP. This section applies to batch vapor cleaning machines that use solvent containing greater that 5 percent VOC by weight for the cleaning of metal parts. This section outlines equipment requirements and additional options required for batch vapor cleaning machines with a solvent/air interface area of 13 square feet or less, and for batch vapor cleaning machines with a solvent/air interface area of greater than 13 square feet. The operating procedures for batch vapor cleaning machines are also outlined in this section.

Section 129.63(c) In-line Vapor Cleaning Machines

This section specifically applies to in-line vapor cleaning machines except for those subject to the Federal Solvent Cleaning NESHAP. This section applies to in-line vapor cleaning machines that use solvent containing greater than 5 percent VOC by weight for the cleaning of metal parts. This section outlines the equipment requirements, the additional devices or strategies required in operation, and good operating procedures for in-line vapor cleaning machines.

Section 129.63(d) Airless Cleaning Machines and Airtight Cleaning Machines

This section specifically applies to airless cleaning machines and airtight cleaning machines except for those subject to the Federal Solvent Cleaning NESHAP. This section applies to airless cleaning machines and airtight cleaning machines that use solvent containing greater than 5 percent VOC by weight for the cleaning of metal parts. This section outlines the operating and equipment requirements for airless cleaning machines and airtight cleaning machines as well as the allowable emission limits from each machine. The operator of each machine shall demonstrate that the emissions from each machine, on a 3-month rolling average, are equal to or less than the allowable limit determined by the use of the following equation:

EL = 330 (vol) ^0.6

Where:

EL = the 3-month rolling average monthly emission limit (kilograms/month)

vol = the cleaning capacity of machine (cubic meters)

Section 129.63(e) Alternative Provisions for Solvent Cleaning Machines

This section describes the alternative provisions for solvent cleaning machines used to process metal parts that use solvents containing greater than 5 percent VOC by weight. As an alternative to complying with sections (b)-(d), the operator of a solvent cleaning machine may demonstrate compliance with paragraph (1) or (2) of section 129.63(e). The operator shall maintain records sufficient to demonstrate compliance. These records shall include, at a minium, the quantity of solvent added to and removed from the machine and the dates of the addition and removal. These records shall be maintained for at least 2 years.

Section 129.63(e)(1) outlines the requirements for solvent cleaning machines if the solvent cleaning machine has a solvent/air interface. In this instance, the owner or operator is required to maintain a log of solvent additions and deletions for each solvent cleaning machine, and to ensure that the emissions from each solvent cleaning machine are equal to or less than the applicable emission limit presented in Table 1.

Table 1.—Emission Limits for Solvent Cleaning Machines With a Solvent/Air Interface
Solvent cleaning machine | 3-month rolling average monthly emission limit: kg/ M2/ month | 3-month rolling average monthly emission limit: lb/ft ²/ month
Batch vapor solvent cleaning machines | 150 | 30.7
Existing in-line solvent cleaning machines | 153 | 31.3
In-line solvent cleaning machines installed after the effective date of the regulation | 99 | 20.2

Section 129.63(e)(2) specifies the volatility limits if the solvent cleaning machine is a batch vapor cleaning machine and it does not have a solvent/air interface. In that case, the owner or operator is required to maintain a log of solvent additions and deletions for each machine and to ensure that the emissions from each machine are equal to or less than the appropriate limits as described in paragraphs (3) and (4) of this section.

Section 129.63(e)(3) specifies the volatility limits for solvent cleaning machines without a solvent/air interface with a cleaning capacity that is less than or equal to 2.95 cubic meters. The emission limit for these machines is to be determined using Table 2 or the equation in paragraph (4) of section 129.63(e). If the table is used, and the cleaning capacity of a cleaning machine falls between two cleaning capacity sizes, the lower of the two emission limits applies.

Table 2.—Emission Limits for Solvent Cleaning Machines Without a Solvent/Air Interface
Cleaning capacity (cubic meters) | 3-month rolling average monthly emission limit (kilograms/month) | Cleaning capacity (cubic meters) | 3-month rolling average monthly emission limit (kilograms/month) | Cleaning capacity (cubic meters) | 3-month rolling average monthly emission limit (kilograms/month)
0.00 | 0 | 1.00 | 330 | 2.00 | 500
0.05 | 55 | 1.05 | 340 | 2.05 | 508
0.10 | 83 | 1.10 | 349 | 2.10 | 515
0.15 | 106 | 1.15 | 359 | 2.15 | 522
0.20 | 126 | 1.20 | 368 | 2.20 | 530
0.25 | 144 | 1.25 | 377 | 2.25 | 537
0.30 | 160 | 1.30 | 386 | 2.30 | 544
0.35 | 176 | 1.35 | 395 | 2.35 | 551
0.40 | 190 | 1.40 | 404 | 2.40 | 558
0.45 | 204 | 1.45 | 412 | 2.45 | 565
0.50 | 218 | 1.50 | 421 | 2.50 | 572
0.55 | 231 | 1.55 | 429 | 2.55 | 579
0.60 | 243 | 1.60 | 438 | 2.60 | 585
0.65 | 255 | 1.65 | 446 | 2.65 | 592
0.70 | 266 | 1.70 | 454 | 2.70 | 599
0.75 | 278 | 1.75 | 462 | 2.75 | 605
0.80 | 289 | 1.80 | 470 | 2.80 | 612
0.85 | 299 | 1.85 | 477 | 2.85 | 619
0.90 | 310 | 1.90 | 485 | 2.90 | 625
0.95 | 320 | 1.95 | 493 | 2.95 | 632

Section 129.63(e)(4) specifies volatility limits for solvent cleaning machines without a solvent/air interface with a cleaning capacity that is greater than 295 cubic meters. The emission limit for these machines is to be determined using the following quotation:

EL = 330 (vol) 0.6

Where:

EL = the 3-month rolling average monthly emission limit (kilograms/month)

vol = the cleaning capacity of machine (cubic meters)

This regulation also requires the owner or operator of a batch vapor or in-line solvent cleaning machine complying with this subsection to demonstrate compliance with the applicable 3-month rolling average monthly emission limit on a monthly basis. If the applicable 3-month rolling average emission limit is not met, an exceedance will have occurred. Exceedances shall be reported to the Department within 30 days of the determination of the exceedance.

B. Definitions

Chapter 121.1 General Provisions-Additions, Revisions to Section 121.1, Definitions

This SIP revision adds definitions and revises certain existing definitions to Chapter 121, General Provisions, section 121.1, Definitions for terms used in the substantive provisions of Chapter 129, Pennsylvania's regulations which contain VOC emission standards. Additional definitions are provided for the following: Airless cleaning system, Airtight cleaning system, Batch vapor cleaning machine, Carbon absorber, Cold cleaning machine, Dwell, Dwell time, Extreme cleaning service, Freeboard refrigeration device, Idling mode, Immersion cold cleaning machine, In-line vapor cleaning machine, Reduced room draft, Remote reservoir cold cleaning machine, Solvent/air interface, Solvent cleaning machine, Solvent cleaning machine automated parts handling system, Solvent cleaning machine down time, Solvent vapor zone, Superheated vapor system, Vapor cleaning machine, Vapor cleaning machine primary condenser, Vapor pressure, Vapor up control switch, and Working mode cover.

These amendments also include a revision to the definition of “freeboard ratio” to make it consistent with the definition in the Federal Solvent Cleaning NESHAP.

III. EPA's Evaluation of Pennsylvania's Submittal

The February 13, 2002 SIP revision submitted by the Commonwealth revises the existing solvent cleaning requirements as recommended by the OTC in their model rule for solvent cleaning operations to help attain and maintain the one-hour ozone standard. The new VOC regulations submitted by the Commonwealth of Pennsylvania as a SIP revision on February 13, 2002, related to solvent cleaning operations, and the addition of definitions used in the substantive sections of Chapter 129 strengthen Pennsylvania's SIP by providing enforceable emission control measures that will reduce VOC emissions from solvent cleaning operations throughout the Commonwealth.

These regulations implement one of the VOC control strategies recommended by the OTC to address the emission reduction shortfall in Pennsylvania's attainment demonstration. The emission reductions that will result from this rulemaking are a significant part of the Commonwealth's efforts to continue toward attainment and maintenance of the one-hour NAAQS for ozone throughout the Commonwealth.

IV. Proposed Action

EPA is proposing to approve the Commonwealth of Pennsylvania SIP revision for solvent cleaning operations, which was submitted on February 13, 2002. EPA is also proposing to approve the additions and revisions of definitions used in the solvent cleaning regulations. EPA is soliciting public comments on the issues discussed in this document or on other relevant matters. These comments will be considered before taking final action. Interested parties may participate in the Federal rulemaking procedure by submitting written comments to the EPA Regional office listed in the ADDRESSES section of this document. A more detailed description of the state submittal and EPA's evaluation are included in a Technical Support Document (TSD) prepared in support of this rulemaking action. A copy of the TSD is available, upon request, from the EPA Regional Office listed in the ADDRESSES section of this document

V. Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal standard, and does not alter the relationship or the distribution of power and responsibilities established in the Clean Air Act. This proposed rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This proposed rule to revise Pennsylvania's VOC control requirements for solvent cleaning operations does not impose an information collection burden under the provisions of the Paperwork Reduction Act of 1995 (44 U.S.C. 3501 et seq.).

List of Subjects in 40 CFR Part 52

Environmental protection, Air pollution control, Ozone, Reporting and recordkeeping requirements.

Authority: 42 U.S.C. 7401 et seq.

Dated: May 8, 2002.
Thomas C. Voltaggio,
Acting Regional Administrator, Region III.

[FR Doc. 02-12144 Filed 5-14-02; 8:45 am]

BILLING CODE 6560-50-P